DEPARTMENT OF DEFENSE

Office of the Secretary

Availability of the Fiscal Year 2011 United States Special Operations Command (USSOCOM) Inventory List of Contracts for Services

AGENCY: United States Special Operations Command (USSOCOM), Department of Defense (DoD).

ACTION: Notice of availability.

SUMMARY: In accordance with section 2330a of Title 10, United States Code as amended by the National Defense Authorization Act for Fiscal Year 2012, the Director of Procurement USSOCOM and the Office of the Director, Defense Procurement and Acquisition Policy, Office of Strategic Sourcing (DPAP/SS) will make available to the public the first inventory of activities performed pursuant to contracts for services. The inventory will be published to the USSOCOM public portal Web site at the following location: http://www.socom.mil/sordac/Documents/USSOCOM_FY11_Services_Inventory_List.pdf.

DATES: Inventory to be made publically available within 30 days after publication of this notice.

ADDRESSES: Send written comments and suggestions concerning this inventory to Marian Duchesne, Procurement Analyst, SORDAC-KM (Team Jacobs), 7701 Tampa Point Blvd., MacDill AFB, FL 33621-5323.

FOR FURTHER INFORMATION CONTACT: Marian Duchesne at (813) 826-6499 or email marian.duchesne.ctr@socom.mil.

Dated: June 22, 2012.
Aaron Siegel,
Alternate OSD Federal Register Liaison Officer, Department of Defense.

[FR Doc. 2012-15702 Filed 6-26-12; 8:45 am]

BILLING CODE 5001-06-P